DEPARTMENT OF COMMERCE

National Oceanic and Atmospheric Administration

[I.D. 081402A]

Endangered and Threatened Species; Take of Anadromous Fish

AGENCY: National Marine Fisheries Service (NMFS), National Oceanic and Atmospheric Administration (NOAA), Commerce.

ACTION: Receipt of an application to modify an existing scientific research/enhancement permit (1044) and request for comment.

SUMMARY: Notice is hereby given that NOAA Fisheries has received an application for a permit modification for permit number 1044 from the Southwest Fisheries Science Center (SWFSC) in Santa Cruz, CA. The modified permit would affect ten Evolutionarily Significant Units (ESUs) of salmonids identified in SUPPLEMENTARY INFORMATION following. This document serves to notify the public of the availability of the permit modification application for review and comment before a final approval or disapproval is made by NOAA Fisheries.

DATES: Written comments on the permit application must be received at the appropriate address or fax number (see ADDRESSES) no later than 5 p.m. Pacific Standard Time on September 23, 2002.

ADDRESSES: Written comments on the modification request should be sent to the appropriate office as indicated below. Comments may also be sent via fax to the number indicated for the request. Comments will not be accepted if submitted via e-mail or the Internet. The applications and related documents are available for review in the indicated office, by appointment: Daniel Logan, Protected Species Division, NOAA Fisheries, 777 Sonoma Avenue, Room 325, Santa Rosa, CA 95404-6528 (ph: 707-575-6053, fax: 707-578-3435). Documents may also be reviewed by appointment in the Office of Protected Resources, F/PR3, NOAA Fisheries, 1315 East-West Highway, Silver Spring, MD 20910-3226 (301-713-1401).

FOR FURTHER INFORMATION CONTACT: Daniel Logan at phone number 707-575-6053, or e-mail: dan.logan@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NOAA Fisheries regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NOAA Fisheries.

Species Covered in This Notice

This notice is relevant to the following eight threatened and two endangered salmonid ESUs: threatened Southern Oregon/northern California Coasts coho salmon (Oncorhynchus kisutch), threatened Central California Coast coho salmon, threatened California Coastal Chinook salmon (O. tshawytscha), threatened Central Valley Spring-run Chinook salmon, endangered Sacramento River Winter-run Chinook salmon, threatened Northern California steelhead (O. mykiss), threatened Central California Coast steelhead, threatened Central Valley steelhead, threatened South-central California Coast steelhead, and endangered Southern California steelhead.

Modification Request Received

SWFSC requests a modification to permit 1044 for takes of adult and juvenile ESA-listed coho salmon, chinook salmon, and steelhead associated with population studies, carcass counts, redd surveys, genetic analyses, and habitat association studies. Presently, permit 1044 authorizes intentional takes of adult and juvenile threatened Southern Oregon/northern California Coasts coho salmon, and threatened Central California Coast coho salmon for projects in northern California. This requested modification would add intentional takes of threatened California Coastal chinook salmon, threatened Central Valley Spring-run chinook salmon, endangered Sacramento River Winter-run chinook salmon, threatened Northern California steelhead, threatened Central California Coast steelhead, threatened Central Valley steelhead, threatened South-central California Coast steelhead, and endangered Southern California steelhead to the SWFSC permit.

Dated: August 19, 2002.
Susan L. Pultz,
Acting Chief, Endangered Species Division, Office of Protected Resources, National Marine Fisheries Service.

[FR Doc. 02-21590 Filed 8-22-02; 8:45 am]

BILLING CODE 3510-22-S